DEPARTMENT OF ENERGY

Federal Energy Regulatory Commission

[Docket No. RP02-246-001]

Dominion Transmission Inc.; Notice of Compliance Filing

July 16, 2002.

Take notice that on July 10, 2002, Dominion Transmission Inc. (DTI) tendered for filing as part of its FERC Gas Tariff, Third Revised Volume No. 1, Substitute Second Revised Sheet No. 1155, to be effective July 1, 2002.

DTI states that the filing is being made to comply with the Commission's letter order of June 26, 2002 in the above referenced docket. The revised tariff sheet eliminates timing limitations for pipeline notification to replacement shippers of a recall of capacity.

DTI states that copies of the filing has been served upon all parties on the official service list.

Any person desiring to protest said filing should file a protest with the Federal Energy Regulatory Commission, 888 First Street, NE., Washington, DC 20426, in accordance with Section 385.211 of the Commission's Rules and Regulations. All such protests must be filed on or before July 23, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18391 Filed 7-19-02; 8:45 am]

BILLING CODE 6717-01-P